FEDERAL MARITIME COMMISSION

Sunshine Act Meeting

AGENCY HOLDING THE MEETING: Federal Maritime Commission.

TIME AND DATE: 10 a.m.—May 10, 2001.

PLACE: 800 North Capitol Street, N.W., First Floor Hearing Room, Washington, D.C.

STATUS: A portion of the meeting will be open to the public. The remainder of the meeting will be closed.

MATTERS TO BE CONSIDERED: The open portion of the meeting:

1. Shipper Export Declaration (SED) Fees

2. Commission Alternative Dispute Resolution Program

The closed portion of the meeting:

1. Executive Tug Franchises—Marine Terminal Operators Serving the Lower Mississippi River

2. Exclusive Tug Arrangements in Florida Ports

CONTACT PERSON FOR MORE INFORMATION: Bryant L. VanBrakle, Secretary, (202) 523-5725.

Bryant L. VanBrakle,
Secretary.

[FR Doc. 01-11581 Filed 5-3-01; 4:26 pm]

BILLING CODE 6730-01-M